DEPARTMENT OF HEALTH AND HUMAN SERVICES

National Institutes of Health

Office of the Secretary; Notice of Meeting

Pursuant to section 10(a) of the Federal Advisory Committee Act, as amended, notice is hereby given of a meeting of the Interagency Pain Research Coordinating Committee.

The meeting will be open to the public via NIH Videocast https://videocast.nih.gov/. Individuals who plan to participate and need special assistance, such as sign language interpretation or other reasonable accommodations, should notify the Contact Person listed below in advance of the meeting.

Name of Committee: Interagency Pain Research Coordinating Committee.

Date: June 7, 2022.

Time: 2:00 p.m. to 5:00 p.m. Eastern Daylight Time (EDT).

Agenda: The meeting will cover committee business items and IPRCC member updates. Items discussed will include updates on pain workforce enhancement, pain research, patient engagement, and diversity efforts.

Webcast Live: https://videocast.nih.gov/.

Deadline: Submission of intent to submit written/electronic statement for comments: Tuesday, May 31st, by 5:00 p.m. EDT.

Place: National Institutes of Health, Building 31, 31 Center Drive, Bethesda, MD 20892 (Virtual Meeting).

Contact Person: Linda L. Porter, Ph.D., Director, Office of Pain Policy and Planning, Office of the Director, National Institute of Neurological Disorders and Stroke, NIH, 31 Center Drive, Room 8A31, Bethesda, MD 20892, Phone: (301) 451-4460, Email: Linda.Porter@nih.gov.

Any interested person may file written comments with the committee by forwarding the statement to the Contact Person listed on this notice. The statement should include the name, address, telephone number and when applicable, the business or professional affiliation of the interested person.

Visit the IPRCC website for more information: https://iprcc.nih.gov. Agenda and any additional information for the meeting will be posted when available.

Dated: April 25, 2022.
Tyeshia M. Roberson-Curtis,
Program Analyst, Office of Federal Advisory Committee Policy.

[FR Doc. 2022-09140 Filed 4-27-22; 8:45 am]

BILLING CODE 4140-01-P